DEPARTMENT OF JUSTICE

[OMB Number 1140-0094]

Agency Information Collection Activities; Proposed eCollection eComments Requested; Title—Certification of Qualifying State Relief From Disabilities Program—ATF Form 3210.12

AGENCY: Bureau of Alcohol, Tobacco, Firearms, and Explosives, Department of Justice.

ACTION: 30-Day Notice.

SUMMARY: The Department of Justice (DOJ), Bureau of Alcohol, Tobacco, Firearms, and Explosives (ATF), will be submitting the following information collection request to the Office of Management and Budget (OMB) for review and approval in accordance with the Paperwork Reduction Act of 1995.

DATES: Comments are encouraged and will be accepted for 30 days until December 17, 2025.

FOR FURTHER INFORMATION CONTACT: If you have comments especially on the estimated public burden or associated response time, suggestions, or need a copy of the proposed information collection instrument with instructions or additional information, please contact: Pamela Eisert, FIBPB, either by mail at Bureau of Alcohol, Tobacco, Firearms, and Explosives; 99 New York Ave. NE, Washington DC 20226, by email at email at fipb-informationcollection@atf.gov, or by telephone at 202-658-7190.

SUPPLEMENTARY INFORMATION: The proposed information collection was previously published in the Federal Register, volume 90 page 37567, on Tuesday, August 5, 2025, allowing a 60-day comment period. We encourage written comments and suggestions from the public and affected agencies concerning the proposed information collection. Your comments should address one or more of the following four points:

—Evaluate whether the proposed information collection is necessary to properly perform ATF's functions, including whether the information will have practical utility;

—Evaluate the agency's estimate of the proposed information collection's burden for accuracy, including validity of the methodology and assumptions used;

—Evaluate whether, and if so, how, the quality, utility, and clarity of the collected information can be enhanced; and

—Minimize the information collection's burden on those who are to respond, including using appropriate automated, electronic, mechanical, or other technological collection techniques or other forms of information technology, e.g., permitting people to submit electronic responses.

Written comments and recommendations for this information collection should be submitted within 30 days of the publication of this notice on the following website www.reginfo.gov/public/do/PRAMain. Find this particular information collection by selecting “Currently under 30-day Review—Open for Public Comments” or by using the search function and entering either the title of the information collection or the OMB Control Number 1140-0094. This information collection request may be viewed at www.reginfo.gov. Follow the instructions to view Department of Justice information collections currently under review by OMB.

DOJ seeks PRA authorization for this information collection for three years. OMB authorization for an ICR cannot be for more than three years without renewal. DOJ notes that information collection requirements submitted to OMB for existing ICRs receive a month-to-month extension while they undergo review.

During the 60-day public comment period, ATF did not receive any comments on this ICR.

Overview of This Information Collection

1. Type of information collection: revising a previously approved collection.

2. Title of the form/collection: Certification of Qualifying State Relief from Disabilities Program.

3. Agency form number, if any, and the applicable component of the Department of Justice sponsoring the collection: ATF Form 3210.12.

Component: Bureau of Alcohol, Tobacco, Firearms, and Explosives; U.S. Department of Justice.

4. Affected public who will be asked or required to respond, as well as a brief abstract:

Affected public: state, local and tribal governments.

Abstract: The NICS Improvement Act sought to address gap in information from states about mental health adjudications/commitments prohibiting purchase of firearms. It authorizes grants for states to improve quality and completeness of records available to NICS, but to qualify for a grant, a state official must certify to ATF that the state has implemented a qualifying program permitting people adjudicated as a mental defective or committed to an institution to apply for relief from that firearms disability.

5. Obligation to respond: the obligation to respond is required to obtain or retain a benefit.

6. Total estimated number of respondents: 50 respondents.

7. Estimated time per respondent: 15 minutes.

8. Frequency: once annually.

9. Total estimated annual time burden: 0.25 hours.

10. Total estimated annual other costs burden: $0.

If you need additional information, contact: Darwin Arceo, Department Clearance Officer, Policy and Planning Staff, Justice Management Division; United States Department of Justice; Two Constitution Square, 145 N Street NE, 4W-218 Washington, DC 20530.

Dated: November 13, 2025.
Darwin Arceo,
Department Clearance Officer for PRA, U.S. Department of Justice.

[FR Doc. 2025-19991 Filed 11-14-25; 8:45 am]

BILLING CODE 4410-FY-P